DEPARTMENT OF TRANSPORTATION

Surface Transportation Board

[Docket No. AB 290 (Sub-No. 379X)]

Norfolk Southern Railway Company—Discontinuance of Service Exemption—in Columbia County, FL

Norfolk Southern Railway Company (NSR) filed a verified notice of exemption under 49 CFR part 1152, subpart F—Exempt Abandonments and Discontinuances of Service to discontinue service over an approximately 0.24-mile rail line between mileposts 215.96 B (near SE Timberwolf Drive) and 216.20 B (near Pounds Hammock Road and Black Bear Street) (the Line), in Columbia County, Fla. The Line traverses United States Postal Service Zip Code 32025.

NSR has certified that: (1) No freight traffic has moved over the Line for at least two years; (2) no formal complaint filed by a user of rail service on the Line (or by a state or local government entity acting on behalf of such user) regarding cessation of service over the Line either is pending with the Surface Transportation Board or any U.S. District Court or has been decided in favor of a complainant within the two-year period; and (3) the requirements at 49 CFR 1105.12 (newspaper publication), and 49 CFR 1152.50(d)(1) (notice to governmental agencies) have been met.

As a condition to this exemption, any employee adversely affected by the discontinuance shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will become effective on August 28, 2015, unless stayed pending reconsideration. Petitions to stay that do not involve environmental issues and formal expressions of intent to file an OFA to subsidize continued rail service under 49 CFR 1152.27(c)(2) ¹ must be filed by August 10, 2015.² Petitions to reopen must be filed by August 18, 2015, with the Surface Transportation Board, 395 E Street SW., Washington, DC 20423-0001.

¹ Each OFA must be accompanied by the filing fee, which is currently set at $1,600. See 49 CFR 1002.2(f)(25).

² Because this is a discontinuance proceeding and not an abandonment, interim trail use/rail banking and public use conditions are not appropriate.

A copy of any petition filed with the Board should be sent to NSR's representative: William A. Mullins, Baker & Miller PLLC, 2401 Pennsylvania Ave. NW., Suite 300, Washington, DC 20037.

If the verified notice contains false or misleading information, the exemption is void ab initio.

Board decisions and notices are available on our Web site at WWW.STB.DOT.GOV.

Decided: July 22, 2015.
By the Board, Joseph H. Dettmar, Acting Director, Office of Proceedings.
Kenyatta Clay,
Clarence Clerk.

[FR Doc. 2015-18934 Filed 7-30-15; 8:45 am]

BILLING CODE 4915-01-P